DEPARTMENT OF ENERGY

Federal Energy Regulatory Commission

Combined Notice of Filings #1

Take notice that the Commission received the following electric rate filings:

Docket Numbers: ER20-1167-001.

Applicants: Midcontinent Independent System Operator, Inc., Republic Transmission, LLC.

Description: Tariff Amendment: 2020-03-26_Republic Transmission Amendment Filing to be effective 12/31/9998.

Filed Date: 3/26/20.

Accession Number: 20200326-5134.

Comments Due: 5 p.m. ET 4/16/20.

Docket Numbers: ER20-1383-000.

Applicants: PECO Energy Company, PJM Interconnection, L.L.C.

Description: § 205(d) Rate Filing: PECO submits Revisions to Att. H-7A re: Depreciation and Amortization Rates to be effective 5/29/2020.

Filed Date: 3/25/20.

Accession Number: 20200325-5152.

Comments Due: 5 p.m. ET 4/15/20.

Docket Numbers: ER20-1384-000.

Applicants: Florida Power & Light Company.

Description: Compliance filing: FPL Order No. 845 & 845-A Further Compliance Filing to be effective 5/22/2019.

Filed Date: 3/25/20.

Accession Number: 20200325-5154.

Comments Due: 5 p.m. ET 4/15/20.

Docket Numbers: ER20-1385-000.

Applicants: Bluestone Farm Solar, LLC.

Description: Baseline eTariff Filing: Application for Market-Based Rate Authorization, Request for Related Waivers to be effective 5/25/2020.

Filed Date: 3/25/20.

Accession Number: 20200325-5156.

Comments Due: 5 p.m. ET 4/15/20.

Docket Numbers: ER20-1387-000.

Applicants: Silver Run Electric, LLC, PJM Interconnection, L.L.C.

Description: § 205(d) Rate Filing: Silver Run Electric, LLC submits Revisions to OATT, Att. H-27A and H-27B to be effective 5/25/2020.

Filed Date: 3/25/20.

Accession Number: 20200325-5176.

Comments Due: 5 p.m. ET 4/15/20.

Docket Numbers: ER20-1388-000.

Applicants: Tri-State Generation and Transmission Association, Inc.

Description: § 205(d) Rate Filing: Rate Schedule FERC No. 267 between Tri-State and LPEA to be effective 1/31/2020.

Filed Date: 3/25/20.

Accession Number: 20200325-5187.

Comments Due: 5 p.m. ET 4/15/20.

Docket Numbers: ER20-1389-000.

Applicants: Tri-State Generation and Transmission Association, Inc.

Description: Tariff Cancellation: Notice of Cancellation of Rate Schedule FERC No. 82 to be effective 1/31/2020.

Filed Date: 3/25/20.

Accession Number: 20200325-5194.

Comments Due: 5 p.m. ET 4/15/20.

Docket Numbers: ER20-1390-000.

Applicants: Tri-State Generation and Transmission Association, Inc.

Description: Tariff Cancellation: Notice of Cancellation of Rate Schedule FERC No. 132 to be effective 1/31/2020.

Filed Date: 3/25/20.

Accession Number: 20200325-5198.

Comments Due: 5 p.m. ET 4/15/20.

Docket Numbers: ER20-1391-000.

Applicants: Tri-State Generation and Transmission Association, Inc.

Description: Tariff Cancellation: Notice of Cancellation of Rate Schedules FERC No. 160, No. 161 and No. 162 to be effective 1/31/2020.

Filed Date: 3/25/20.

Accession Number: 20200325-5202.

Comments Due: 5 p.m. ET 4/15/20.

Docket Numbers: ER20-1393-000.

Applicants: Niagara Mohawk Power Corporation, New York Independent System Operator, Inc.

Description: Tariff Cancellation: Notice of cancellation for IA between NMPC and Covanta Niagara LLC to be effective 5/26/2020.

Filed Date: 3/26/20.

Accession Number: 20200326-5086.

Comments Due: 5 p.m. ET 4/16/20.

Docket Numbers: ER20-1394-000.

Applicants: Alliant Energy Corporate Services, Inc.

Description: § 205(d) Rate Filing: AECS Schedule 2 Update to be effective 5/31/2020.

Filed Date: 3/26/20.

Accession Number: 20200326-5122.

Comments Due: 5 p.m. ET 4/16/20.

Docket Numbers: ER20-1395-000.

Applicants: ND OTM LLC.

Description: Baseline eTariff Filing: Application For Market Based Rate Authority to be effective 5/25/2020.

Filed Date: 3/26/20.

Accession Number: 20200326-5128.

Comments Due: 5 p.m. ET 4/16/20.

Docket Numbers: ER20-1396-000.

Applicants: VETCO.

Description: Baseline eTariff Filing: Order No. 864 Compliance Filing to be effective 3/26/2020.

Filed Date: 3/26/20.

Accession Number: 20200326-5148.

Comments Due: 5 p.m. ET 4/16/20.

Docket Numbers: ER20-1397-000.

Applicants: American Transmission Systems, Incorporated, PJM Interconnection, L.L.C.

Description: § 205(d) Rate Filing: Delmarva submits Interconnection Agreement SA No. 5544 to be effective 4/28/2020.

Filed Date: 3/26/20.

Accession Number: 20200326-5182.

Comments Due: 5 p.m. ET 4/16/20.

Docket Numbers: ER20-1398-000.

Applicants: Ocean State BTM, LLC.

Description: Baseline eTariff Filing: Ocean State BTM, LLC MBR Tariff Filing to be effective 5/25/2020.

Filed Date: 3/26/20.

Accession Number: 20200326-5189.

Comments Due: 5 p.m. ET 4/16/20.

Docket Numbers: ER20-1399-000.

Applicants: Rumford ESS, LLC.

Description: Baseline eTariff Filing: Rumford ESS, LLC to be effective 5/25/2020.

Filed Date: 3/26/20.

Accession Number: 20200326-5196.

Comments Due: 5 p.m. ET 4/16/20.

Take notice that the Commission received the following electric reliability filings.

Docket Numbers: RD20-7-000.

Applicants: North American Electric Reliability Corporation.

Description: Petition of the North American Electric Reliability Corporation for Approval of Proposed Reliability Standard PRC-024-3.

Filed Date: 3/20/20.

Accession Number: 20200320-5322.

Comments Due: 5 p.m. ET 4/20/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 26, 2020.
Nathaniel J. Davis, Sr.,
Deputy Secretary.

[FR Doc. 2020-06760 Filed 3-31-20; 8:45 am]

BILLING CODE 6717-01-P